INTERNATIONAL TRADE COMMISSION

[Investigation No. 731-TA-1315 (Preliminary)]

Ferrovanadium From Korea

Determination

On the basis of the record ¹ developed in the subject investigation, the United States International Trade Commission (“Commission”) determines, pursuant to the Tariff Act of 1930 (“the Act”), that there is a reasonable indication that an industry in the United States is materially injured by reason of imports of ferrovanadium from Korea, provided for in subheading 7202.92.00 of the Harmonized Tariff Schedule of the United States, that are alleged to be sold in the United States at less than fair value (“LTFV”).

¹ The record is defined in sec. 207.2(f) of the Commission's Rules of Practice and Procedure (19 CFR § 207.2(f)).

Commencement of Final Phase Investigation

Pursuant to section 207.18 of the Commission's rules, the Commission also gives notice of the commencement of the final phase of its investigation. The Commission will issue a final phase notice of scheduling, which will be published in the Federal Register as provided in section 207.21 of the Commission's rules, upon notice from the Department of Commerce (“Commerce”) of an affirmative preliminary determination in the investigation under section 733(b) of the Act, or, if the preliminary determination is negative, upon notice of an affirmative final determination in that investigation under section 735(a) of the Act. Parties that filed entries of appearance in the preliminary phase of the investigation need not enter a separate appearance for the final phase of the investigation. Industrial users, and, if the merchandise under investigation is sold at the retail level, representative consumer organizations have the right to appear as parties in Commission antidumping and countervailing duty investigations. The Secretary will prepare a public service list containing the names and addresses of all persons, or their representatives, who are parties to the investigation.

Background

On March 28, 2016, the Vanadium Producers and Reclaimers Association and its members AMG Vanadium, LLC, Cambridge, Ohio; Bear Metallurgical Company, Butler, Pennsylvania; Gulf Chemical & Metallurgical Corporation, Freeport, Texas; and Evraz Stratcor, Inc., Hot Springs, Arkansas, filed a petition with the Commission and Commerce, alleging that an industry in the United States is materially injured and threatened with material injury by reason of LTFV imports of ferrovanadium from Korea. Accordingly, effective March 28, 2016, the Commission, pursuant to section 733(a) of the Tariff Act of 1930 (19 U.S.C. § 1673b(a)), instituted antidumping duty investigation No. 731-TA-1315 (Preliminary).

Notice of the institution of the Commission's investigation and of a public conference to be held in connection therewith was given by posting copies of the notice in the Office of the Secretary, U.S. International Trade Commission, Washington, DC, and by publishing the notice in the Federal Register of April 1, 2016 (81 FR 18888). The conference was held in Washington, DC, on April 18, 2016, and all persons who requested the opportunity were permitted to appear in person or by counsel.

The Commission made this determination pursuant to section 733(a) of the Tariff Act of 1930 (19 U.S.C. § 1673b(a)). It completed and filed its determination in this investigation on May 12, 2016. The views of the Commission are contained in USITC Publication 4611 (May 2016), entitled Ferrovanadium from Korea: Investigation No. 731-TA-1315 (Preliminary).

By order of the Commission.
Issued: May 12, 2016.
Lisa R. Barton,
Secretary to the Commission.

[FR Doc. 2016-11668 Filed 5-17-16; 8:45 am]

BILLING CODE 7020-02-P